DEPARTMENT OF JUSTICE

Parole Commission

Sunshine Act Meeting

DATE AND TIME: Thursday April 14, 2022, at 2 p.m.

PLACE: U.S. Parole Commission, 90 K Street NE, 3rd Floor, Washington, DC.

STATUS: Open.

MATTERS TO BE CONSIDERED:

1. Approval of October 14, 2021 Quarterly Meeting minutes.

2. Verbal Pandemic Updates since October Quarterly Meeting from the Acting Chairman, Commissioner, Acting Chief of Staff/Case Operations Administrator, Case Services Administrator, Executive Officer, and General Counsel.

3. Verbal update from Jordana Cunningham regarding RSAT and other treatment programs being utilized.

4. Update on the PAVER program.

CONTACT PERSON FOR MORE INFORMATION: Jacquelyn Graham, Staff Assistant to the Chairman, U.S. Parole Commission, 90 K Street NE, 3rd Floor, Washington, DC 20530, (202) 346-7010.

Dated: April 4, 2022.
Patricia K. Cushwa,
Chairman (Acting), U.S. Parole Commission.

[FR Doc. 2022-07441 Filed 4-4-22; 4:15 pm]

BILLING CODE 4410-31-P